DEPARTMENT OF COMMERCE

National Oceanic and Atmospheric Administration

[RTID 0648-XE595]

Marine Mammals; Issuance of Letters of Confirmation

AGENCY: National Marine Fisheries Service (NMFS), National Oceanic and Atmospheric Administration (NOAA), Commerce.

ACTION: Notice; issuance of permits.

SUMMARY: Notice is hereby given that individuals and institutions have been issued Letters of Confirmation (LOCs) for activities conducted under the General Authorization for Scientific Research on marine mammals. See SUPPLEMENTARY INFORMATION for a list of names and addresses of recipients.

ADDRESSES: The LOCs and related documents are available for review upon written request via email to NMFS.Pr1Comments@noaa.gov.

FOR FURTHER INFORMATION CONTACT: Amy Hapeman (LOC Nos. 27917, and 27920), Erin Markin, Ph.D. (LOC Nos. 27902 and 27993), Shasta McClenahan, Ph.D. (LOC No. 22856-01, 27369-01, and 28117), and Courtney Smith, Ph.D. (LOC Nos. 22587-01, 23546, 23782-01, 27595, and 28261), at the email listed above or (301) 427-8401.

SUPPLEMENTARY INFORMATION: The requested LOCs have been issued under the authority of the Marine Mammal Protection Act of 1972, as amended (16 U.S.C. 1361 et seq.), and the regulations governing the taking and importing of marine mammals (50 CFR part 216). The General Authorization allows for bona fide scientific research that may result only in taking by Level B harassment of marine mammals. The following LOCs were issued in the calendar year 2024 (January 1, 2024—December 31, 2024).

File No. 22587-01: This LOC, held by Dolphin Research Center (Principal Investigator [PI]: Armando Rodriguez), P.O. Box 522875, Marathon Shores, Florida 33052, was extended on January 30, 2024, while the holder's new application was in process. The LOC authorizes the use of vessel and unmanned aerial systems (UAS) for photo-identification, behavioral observations, photography, photogrammetry, passive acoustic recordings, and breath sampling of bottlenose dolphins (Tursiops truncatus) in the middle Florida Keys. The objective of the research is to evaluate the health, behavior, and structure of the local dolphin population. The objectives of the research did not change. The LOC was subsequently terminated on March 15, 2024, when a separate LOC was issued (No. 27595, see below).

File No. 27595: Issued to Dolphin Research Center (PI: Armando Rodriguez), 58901 Overseas Highway, Grassy Key, Florida 33050, on March 15, 2024. The LOC authorizes research on bottlenose dolphins in the middle Florida Keys using vessel surveys for counts, photo-identification, passive acoustic recording, behavioral observations, and unmanned aircraft flights for photogrammetry and breath sampling. The objectives of the research are to establish a cohesive estimation of the distribution, residency, behavior, health, and movement patterns for bottlenose dolphins in the middle Florida Keys. The LOC expires March 15, 2029.

File No. 27917: Issued to Melissa Laurino, Cape May Marine Mammal Research Center, P.O. Box 474, Cape May, New Jersey 08204, on March 26, 2024. The LOC authorizes research on bottlenose dolphins, harbor porpoises (Phocoena phocoena), and humpback whales (Megaptera novaeangliae) in Delaware Bay and adjacent Atlantic waters off Cape May, New Jersey using vessel surveys for counts, photo-identification, and behavioral observations. The main objective of the research is to assess site fidelity, distribution and abundance, habitat utilization, foraging and mating ecology, social structure and networks, anthropogenic interactions, and general health. The LOC expires March 31, 2029.

File No. 23546: This LOC, held by Donna Hauser, Ph.D., University of Alaska Fairbanks, 2160 Koyukuk Drive, Fairbanks, Alaska 99775, was extended on April 11, 2024. The LOC authorizes the close approach of spotted seals (Phoca largha, Alaska stock) in coastal haulouts in the Chukchi and Beaufort Seas of northern Alaska using ground and UAS surveys to conduct photo-identification, behavioral observations and monitoring, and remote video monitoring. Research objectives are to investigate the distribution, habitat use, foraging ecology, health, population structure, behavior, and abundance. Scat, spew, shed skin or hair may also be collected. The extended LOC expires on April 1, 2026.

File No. 27902: Issued to Tara Cox, Ph.D., Savannah State University, P.O. Box 20467, Savannah, Georgia 31404, on April 18, 2024, with an effective date of June 1, 2024. This LOC authorizes vessel or unmanned aircraft systems surveys for close approach, photo-identification, behavioral observations, and passive acoustic recordings within Georgia waters and the adjacent Atlantic Ocean. Research objectives are to understand the social structure, foraging ecology, life history, and population structure of bottlenose, pantropical spotted (Stenella attenuata), and Atlantic spotted (S. frontalis) dolphins. The LOC expires on May 31, 2029.

File No. 27920: Issued to the Texas Marine Mammal Stranding Network (Responsible Party [RP]: Heidi Whitehead), 4700 Avenue U, Galveston, Texas 77551, on April 22, 2024. The LOC authorizes research on bottlenose dolphins in Texas waters using vessel surveys for counts, photo-identification, photography/videography, and behavioral observations. The objectives of the research are to (1) augment current photo-identification catalogs and inform spatial capture-mark-recapture analysis, (2) examine dolphin spatiotemporal habitat-use and site fidelity, (3) study dolphin behavioral ecology, and (4) assess injuries to identify localized anthropogenic risks to stocks. The LOC expires April 30, 2029.

File No. 27369: Issued to Stephen McCulloch, Protect Wild Dolphins Alliance, Inc., 307 Saint Thomas Avenue, Key Largo, Florida 33037, on August 14, 2023. This LOC authorizes research to estimate abundance, determine distribution patterns, assess habitat use, and evaluate site fidelity of bottlenose dolphins inhabiting the Upper Florida Keys. Authorized activities include close approach by vessel, for counts, photography, photo-identification, video recordings, behavioral observations, and underwater photography/videography by pole camera. This LOC was amended on April 26, 2024, to authorize passive acoustic monitoring to study dolphin communication. The LOC expires on August 31, 2028.

File No. 27993: Issued to Alaska Department of Fish and Game (RP: Lori Polasek, Ph.D.), P.O. Box 115526, Juneau, Alaska 99811-5526 on May 9, 2024. This LOC authorizes close approach by vessel, manned aerial, and UAS surveys for counts, photo-identification, and behavioral observations of harbor porpoise within southeast Alaska waters. Unintentional harassment of unidentified cetaceans and pinnipeds may occur during surveys. Research objectives are to derive estimates of abundance, density, and population structure of harbor porpoise stocks. The LOC expires on May 14, 2029.

File No. 23782-01: Issued to Janet Mann, Ph.D., Georgetown University, Department of Biology, Reiss Science Room 406, 3700 O St. NW, Washington, District of Columbia 20057, on June 7, 2024. This amended LOC authorizes photogrammetry and adds a new study objective to conduct sex-specific growth assessments of bottlenose dolphins (Tursiops spp.) in the lower Potomac River, Virginia, following the 2015 Unusual Mortality Event. Additionally, the LOC was extended, to expire on June 30, 2026.

File No. 22856-01: This LOC, held by Patricia Fair, Ph.D., South Carolina Aquarium, 100 Aquarium Wharf, Charleston, South Carolina 29401 was extended on July 22, 2024, while the holder's new application (File No. 28083) is in process. The LOC authorizes vessel and UAS-based research for photo-identification, photogrammetry, and behavioral observations of bottlenose dolphins in waters near Charleston, South Carolina. The objectives of the research would not change. The extended LOC was set to expire on August 31, 2025. However, it was subsequently terminated on January 29, 2025, when a separate LOC was issued (No. 28083).

File No. 28117: Issued to Joseph Warren, Ph.D., Stony Brook University, Stony Brook, New York 11794, on November 14, 2024. This LOC authorizes photogrammetry, photography, video, counts, and observations during shore-based UAS flights off Long Island, New York. The objective of the research is to study marine mammals and their prey in New York's nearshore environment, including abundance, distribution, size, foraging dynamics, and surface behaviors. Targeted species include bottlenose and Atlantic white-sided dolphins, harbor porpoise, humpback and minke (Balaenoptera acutorostrata) whales, and gray (Halichoerus grypus) and harbor (Phoca vitulina) seals. The LOC expires on December 31, 2027.

File No. 28261: Issued to Institute for Marine Mammal Studies (RP: Mobashir Solangi, Ph.D.), 10801 Dolphin Lane, Gulfport, MS 39503 on December 11, 2024. This LOC authorizes counts, photo-identification, photography/videography, behavioral observations, and passive acoustic recordings of Atlantic spotted (Stenella frontalis), bottlenose, pantropical spotted (Stenella attenuata), and spinner (Stenella longirostris) dolphins; and pygmy sperm whales (Kogia breviceps) during vessel and aerial surveys within coastal and estuarine waters of Mississippi, Louisiana, and Alabama. The objective of the research is to evaluate the long-term population trends, behavior, acoustics, and health of cetaceans utilizing the study area. The LOC expires on December 15, 2029.

In compliance with the National Environmental Policy Act of 1969 (42 U.S.C. 4321 et seq.), a final determination has been made that the activities are categorically excluded from the requirement to prepare an environmental assessment or environmental impact statement.

Dated: May 9, 2025.
Kimberly Damon-Randall,
Director, Office of Protected Resources, National Marine Fisheries Service.

[FR Doc. 2025-08515 Filed 5-13-25; 8:45 am]

BILLING CODE 3510-22-P